DEPARTMENT OF ENERGY

Federal Energy Regulatory Commission

[Project No. 2503-086—South Carolina]

Duke Power, a Division of Duke Energy Corporation; Notice of Availability of Environmental Assessment

April 11, 2006.

In accordance with the National Environmental Policy Act of 1969 and the Federal Energy Regulatory Commission's (Commission) regulations, 18 CFR part 380 (Order No. 486, 52 FR 47897), the Office of Energy Projects has reviewed an application for non-project use of project lands and waters at the Keowee-Toxaway Hydroelectric Project (FERC No. 2503), and has prepared an environmental assessment (EA) for the proposed non-project use. The project is located on the Little and Keowee Rivers in Oconee and Pickens Counties, South Carolina.

In the application, Duke Power (licensee) requests Commission authorization to lease two parcels of project land to Crescent Communities S.C, LLC, and the Waterside Crossing Owners Association, Inc. (applicants) for the construction and operation of: (1) Two marinas consisting of a total of 12 cluster docks with 117 total boat slips; (2) a boat pump-out station; and (3) an irrigation intake. The proposed facilities would serve the residents of Waterside Crossing subdivision, located on a cove on Lake Keowee in Oconee County, South Carolina. No dredging is proposed for this development. The EA contains the Commission staff's analysis of the probable environmental impacts of the proposal, and concludes that approving the licensee's application, with staff's recommended environmental measures, would not constitute a major Federal action significantly affecting the quality of the human environment.

The EA is attached to a Commission order titled “Order Modifying and Approving Non-Project Use of Project Lands and Waters,” which was issued April 7, 2006, and is available for review and reproduction at the Commission's Public Reference Room, located at 888 First Street, NE., Room 2A, Washington, DC 20426. The EA may also be viewed on the Commission's Web site at http://www.ferc.gov using the “elibrary” link. Enter the dock number (prefaced by P-), excluding the last three digits, in the docket number field to access the document. For assistance, contact FERC Online Support at FERCOnlineSupport@ferc.gov or toll-free at (866) 208-3676, or for TTY, contact (202) 502-8659.

Magalie R. Salas,
Secretary.

[FR Doc. E6-5732 Filed 4-17-06; 8:45 am]

BILLING CODE 6717-01-P